DEPARTMENT OF DEFENSE

Office of the Secretary

[Docket ID DOD-2010-OS-0045]

Privacy Act of 1974; System of Records

AGENCY: Defense Logistics Agency, DoD.

ACTION: Notice to amend a system of records.

SUMMARY: The Defense Logistics Agency is proposing to amend a system of records notice in its existing inventory of record systems subject to the Privacy Act of 1974 (5 U.S.C. 552a), as amended.

DATES: The proposed action will be effective without further notice on May 17, 2010 unless comments are received which would result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler at (703) 767-5045.

SUPPLEMENTARY INFORMATION: The Defense Logistics Agency's system of record notices subject to the Privacy Act of 1974 (5 U.S.C. 552a), as amended, have been published in the Federal Register and are available from the Chief Privacy and FOIA Officer, Headquarters Defense Logistics Agency, Attn: DGA, 8725 John J. Kingman Road, Suite 1644, Fort Belvoir, VA 22060-6221.

The specific changes to the record system being amended are set forth below followed by the notice, as amended, published in its entirety. The proposed amendment is not within the purview of subsection (r) of the Privacy Act of 1974 (5 U.S.C. 552a), as amended, which requires the submission of new or altered systems reports.

Dated: April 12, 2010.
Mitchell S. Bryman,
Alternate OSD Federal Register Liaison Officer, Department of Defense.

S330.10

System name:

DLA Telework Program Records (May 5, 2006; 71 FR 26476).

Changes:

System ID number:

Delete entry and replace with “S375.80”.

System name:

Delete entry and replace with “Alternate Worksite Records”.

System location:

Delete entry and replace with “Office of the Director, Human Resources, Headquarters, Defense Logistics Agency, 8725 John J. Kingman Road, Suite 6231, Fort Belvoir, VA 22060-6221, and heads of the DLA Primary Level Field activities. Official mailing addresses are published as an appendix to DLA's compilation of systems of records notices.”

* * * * *

Storage:

Delete entry and replace with “Records are maintained on paper and electronic storage media.”

* * * * *

Notification procedure:

Delete entry and replace with “Individuals seeking to determine whether information about themselves is contained in this system should address written inquiries to the Privacy Act Office, Headquarters, Defense Logistics Agency, Attn: DGA, 8725 John J. Kingman Road, Suite 1644, Fort Belvoir, VA 22060-6221.”

Record access procedures:

Delete entry and replace with “Individuals seeking access to information about themselves contained in this system should address written inquiries to the Privacy Act Office, Headquarters, Defense Logistics Agency, Attn: DGA, 8725 John J. Kingman Road, Suite 1644, Fort Belvoir, VA 22060-6221.

Individuals must supply their name and the DLA facility or activity where employed at the time they requested to participate in the Alternate Worksite Program.”

Contesting record procedures:

Delete entry and replace with “The DLA rules for accessing records, for contesting contents, and appealing initial agency determinations are contained in 32 CFR part 323, or may be obtained from the Privacy Act Office, Headquarters, Defense Logistics Agency, Attn: DGA, 8725 John J. Kingman Road, Suite 1644, Fort Belvoir, VA 22060-6221.”

* * * * *

S375.80

System name:

Alternate Worksite Records.

System location:

Office of the Director, Human Resources, Headquarters, Defense Logistics Agency, 8725 John J. Kingman Road, Suite 6231, Fort Belvoir, VA 22060-6221, and heads of the DLA Primary Level Field activities. Official mailing addresses are published as an appendix to DLA's compilation of systems of records notices.

Categories of individuals covered by the system:

Individuals who have been granted and/or denied participation in the DLA Telework Program.

Categories of records in the system:

Records include individual's name; position title, grade, and job series; last performance evaluation rating; duty station address and telephone number; approved alternative worksite address, telephone number(s), telephone installation and local fees (if applicable); Telework request forms (Telework Request and Approval Form, Telework Agreement, Self-Certification Home Safety Checklist, and Supervisor-Employee Checklist); approvals/disapprovals; home safety reports; description of government owned equipment and software provided to the Teleworker; and the digital identifier of the individual used to authenticate document approvals.

Authority for maintenance of the system:

Pub. L. 106-346, section 359, Department of Transportation and Related Agencies Appropriations Act 2001; 5 U.S.C. 6120, Telecommuting in Executive Agencies; Under Secretary of Defense for Personnel and Readiness Memorandum, Department of Defense Telework Policy and Guide for Civilian Employees, October 22, 2001; and DoD Directive 1035.1, Telework Policy for Department of Defense.

Purpose(s):

Records are used by supervisors and program coordinators for managing, evaluating, and reporting DLA Telework Program activity/participation. Data on participation in the DLA Telework Program, minus personal identifiers, is provided to the DoD for a consolidated DoD response to the Office of Personnel Management (OPM) Telework Survey. Portions of the files are used by Information Technology offices for determining equipment and software needs; for ensuring appropriate technical safeguards are in use at alternative work sites; and for evaluating and mitigating vulnerabilities associated with connecting to DLA computer systems from remote locations.

Portions of the files may be used by Information Security offices for determining equipment and software needs; for ensuring appropriate technical safeguards are in use at alternative work sites; and for evaluating and mitigating vulnerabilities associated with connecting to DLA computer systems from remote locations. Portions of the records may also be used by telephone control offices to validate and reimburse participants for costs associated with telephone use.

Routine uses of records maintained in the system, including categories of users and the purposes of such uses:

In addition to those disclosures generally permitted under 5 U.S.C. 552a(b) of the Privacy Act of 1974, these records or information contained therein may specifically be disclosed outside the DOD as a routine use pursuant to 5 U.S.C. 552a(b)(3) as follows:

Home address, home safety checklists, and home safety reports may be disclosed to the Department of Labor when an employee is injured while working at home.

To the American Federation of Government Employees Council 169 to provide raw statistical data on the DLA telework program. Data to be disclosed includes number of positions designated as eligible for Telework by job title, series and grade; number of employees requesting Telework; and the number approved for Telework by the local activity. No personal identifiers or personally identifying data is provided.

The DoD ‘Blanket Routine Uses’ set forth at the beginning of DLA's compilation of systems of records notices apply to this system.

Policies and practices for storing, retrieving, accessing, retaining, and disposing of records in the system:

Storage:

Records are maintained on paper and electronic storage media.

Retrievability:

Records are retrieved by name.

Safeguards:

Access to the database is limited to those who require the records in the performance of their official duties. Access is further restricted by the use of passwords, which are changed periodically. Physical entry is restricted by the use of locks, guards, and administrative procedures. Employees are periodically briefed on the consequences of improperly accessing restricted databases.

Retention and disposal:

Records are destroyed 1 year after employee's participation in the program ends. Unapproved requests are destroyed 1 year after the request is rejected.

System manager(s) and address:

Director, Human Resources, Headquarters, Defense Logistics Agency, 8725 John J. Kingman Road, Suite 6231, Fort Belvoir, VA 22060-6221; and the heads of DLA Primary Level Field activities. Official mailing addresses are published as an appendix to DLA's compilation of systems of records notices.

Notification procedure:

Individuals seeking to determine whether information about themselves is contained in this system should address written inquiries to the Privacy Act Office, Headquarters, Defense Logistics Agency, Attn: DGA, 8725 John J. Kingman Road, Suite 1644, Fort Belvoir, VA 22060-6221.

Record access procedures:

Individuals seeking access to information about themselves contained in this system should address written inquiries to the Privacy Act Office, Headquarters, Defense Logistics Agency, Attn: DGA, 8725 John J. Kingman Road, Suite 1644, Fort Belvoir, VA 22060-6221.

Individuals must supply their name and the DLA facility or activity where employed at the time they requested to participate in the Alternate Worksite Program.

Contesting record procedures:

The DLA rules for accessing records, for contesting contents, and appealing initial agency determinations are contained in 32 CFR part 323, or may be obtained from the Privacy Act Office, Headquarters, Defense Logistics Agency, Attn: DGA, 8725 John J. Kingman Road, Suite 1644, Fort Belvoir, VA 22060-6221.

Record source categories:

Data is supplied by participants, supervisors, and information technology offices.

Exemptions claimed for the system:

None.

[FR Doc. 2010-8654 Filed 4-14-10; 8:45 am]

BILLING CODE 5001-06-P